DEPARTMENT OF ENERGY

Federal Energy Regulatory Commission

Notice of Staff Attendance at North American Electric Reliability Corporation Project 2023-02 Analysis and Mitigation of BES Inverter-Based Resource Performance Issues Standard Drafting Team Meeting; Project Management and Oversight Subcommittee Teleconference; etc.

The Federal Energy Regulatory Commission hereby gives notice that members of the Commission and/or Commission staff may attend the following meetings:

North American Electric Reliability Corporation: Project 2023-02 Analysis and Mitigation of BES Inverter-Based Resource Performance Issues Standard Drafting Team Meeting, Hybrid: Duke Energy Plaza, 525 S Tyron Street, Charlotte, N.C. 28202

July 16, 2024 | 9:00 a.m.-5:00 p.m. Eastern

July 17, 2024 | 9:00 a.m.-5:00 p.m. Eastern

July 18, 2024 | 9:00 a.m.-5:00 p.m. Eastern

Further information regarding this meeting and how to join remotely may be found at: https://www.nerc.com/pa/Stand/Lists/stand/DispForm.aspx?ID=2385.

North American Electric Reliability Corporation: Project Management and Oversight Subcommittee Teleconference, WebEx

July 16, 2024 | 2:30 p.m.-4:30 p.m. Eastern

Further information regarding this meeting and how to join remotely may be found at: https://www.nerc.com/pa/Stand/Lists/stand/DispForm.aspx?ID=2134.

North American Electric Reliability Corporation: Member Representatives Committee Pre-Meeting and Informational Session Webinar, WebEx

July 17, 2024 | 1:00 p.m.-2:30 p.m. Eastern

Further information regarding this meeting and how to join remotely may be found at: https://www.nerc.com/gov/bot/Lists/bot/DispForm.aspx?ID=710.

North American Electric Reliability Corporation: Standards Committee Teleconference, WebEx

July 17, 2024 | 1:00 p.m.-3:00 p.m. Eastern

Further information regarding this meeting and how to join remotely may be found at: https://www.nerc.com/pa/Stand/Lists/stand/DispForm.aspx?ID=2086.

North American Electric Reliability Corporation: System Protection and Controls Working Group Meeting, Hybrid: Hydro Quebec, 1500 Boulevard Robert-Bourassa, 3rd Floor, Montreal Quebec, Canada

July 18, 2024 | 8:00 a.m.-12:00 p.m. Eastern

July 18, 2024 | 1:00 p.m.-5:00 p.m. Eastern

July 19, 2024 | 8:00 a.m.-1:00 p.m. Eastern

Further information regarding this meeting and how to join remotely may be found at: https://www.nerc.com/pa/RAPA/Lists/RAPA/DispForm.aspx?ID=687.

North American Electric Reliability Corporation: Inverter-Based Resource Performance Subcommittee Meeting, WebEx

July 18, 2024 | 1:00 p.m.-4:00 p.m. Eastern

Further information regarding this meeting and how to join remotely may be found at: https://www.nerc.com/pa/RAPA/Lists/RAPA/DispForm.aspx?ID=658.

U.S. Department of Energy's (DOE) Interconnection Innovation e-Xchange (i2X) Solution e-Xchange Season 2: Possibilities to Improve Interconnection Data Access & Transparency, Microsoft Teams

July 18, 2024 | 1:00 p.m.-3:00 p.m. Eastern

Further information regarding this meeting and how to join remotely may be found at: https://events.gcc.teams.microsoft.com/event/030d6ed6-943a-4587-b739-fc209e4293bb@6b183ecc-4b55-4ed5-b3f8-7f64be1c4138.

The discussions at the meetings, which are open to the public, may address matters at issue in the following Commission proceedings:

Docket No. RR24-2-000—North American Electric Reliability Corporation

For further information, please contact Leigh Anne Faugust at (202) 502-6396 or leigh.faugust@ferc.gov.

Dated: July 8, 2024.
Debbie-Anne A. Reese,
Acting Secretary.

[FR Doc. 2024-15366 Filed 7-12-24; 8:45 am]

BILLING CODE 6717-01-P